TENNESSEE VALLEY AUTHORITY

Cheatham County Generation Site Environmental Impact Statement

AGENCY: Tennessee Valley Authority.

ACTION: Notice of intent.

SUMMARY: The Tennessee Valley Authority (TVA) intends to prepare an Environmental Impact Statement (EIS) to address the potential environmental impacts associated with the proposed construction and operation of a simple cycle Combustion Turbine (CT) plant and Battery Energy Storage System (BESS) on a parcel of TVA-owned land in Cheatham County, Tennessee. The Cheatham County Generation Site (CHG) would generate approximately 900 Megawatts (MW) and replace generation capacity for a portion of the Cumberland Fossil Plant (CUF) second unit retirement planned by the end of 2028. The CHG CTs would be composed of multiple natural gas-fired frame CTs and natural gas-fired and oil-fired (i.e., dual-fuel) Aeroderivative CTs. CHG would provide flexible and dispatchable transmission grid support and facilitate the integration of renewable generation onto the TVA bulk transmission system, consistent with the 2019 Integrated Resource Plan (IRP). TVA is inviting public comment concerning the scope of the EIS, alternatives being considered, and environmental issues that should be addressed as a part of this EIS.

DATES: The public scoping period begins with the publication of this notice of intent in the Federal Register. To ensure consideration, comments must be postmarked, submitted online, or emailed no later than June 20, 2023. To facilitate the scoping process, TVA will hold an in-person public open house; see https://www.tva.gov/NEPA for more information on the meeting.

ADDRESSES: Written comments should be sent to J. Taylor Johnson, NEPA Compliance Specialist, 1101 Market Street, BR 2C-C, Chattanooga, Tennessee 37402. Comments may also be submitted online at: https://www.tva.gov/NEPA or by email at nepa@tva.gov.

FOR FURTHER INFORMATION CONTACT: For general information about the project, please contact J. Taylor Johnson, NEPA Compliance Specialist, by mail at 1101 Market Street, BR 2C-C, Chattanooga, Tennessee 37402, by email at nepa@tva.gov, or by phone at 423-751-2732.

SUPPLEMENTARY INFORMATION: This notice is provided in accordance with the Council on Environmental Quality's Regulations (40 CFR parts 1500 to 1508) and TVA's procedures for implementing the National Environmental Policy Act (NEPA). TVA is an agency and instrumentality of the United States, established by an act of Congress in 1933, to foster the social and economic welfare of the people of the Tennessee Valley region and to promote the proper use and conservation of the region's natural resources. One component of this mission is the generation, transmission, and sale of reliable and affordable electric energy.

TVA Transmission System

TVA provides electricity for local power companies serving 10 million people in Tennessee and parts of six surrounding states, as well as directly to large industrial customers and Federal installations. TVA is fully self-financed without Federal appropriations and funds virtually all operations through electricity sales and power system bond financing. Dependable electrical capacity on the TVA power system is approximately 38,000 MW. TVA transmits electricity from generating facilities over 16,000 miles of transmission lines.

Generation Asset Planning

In June 2019, TVA published an IRP, which was developed with input from stakeholder groups and the public. The 2019 IRP evaluated six scenarios (plausible futures) and five strategies (potential TVA responses to those plausible futures) and identified a range of potential resource additions and retirements throughout the TVA power service area, which encompasses approximately 80,000 square miles.

The target supply mix adopted by the TVA Board through the 2019 IRP included the potential retirement of 2,200 MW of coal-fired generation by 2038. The IRP acknowledged continued operational challenges for the aging coal fleet and included a recommendation to conduct end-of-life evaluations during the term of the IRP to determine whether retirements greater than 2,200 MW would be appropriate. Following the publication of the IRP, TVA began conducting these evaluations to inform long-term planning. TVA's recent evaluation confirms that the aging coal fleet is among the oldest in the nation and is experiencing deterioration of material condition and performance challenges. Consistent with aging coal fleet evaluation, TVA made a decision to retire the first CUF unit by the end of 2026 and the second unit by the end of 2028. Generation from the proposed project would replace a portion of the capacity of the second CUF unit to be retired by 2028. Generation from the proposed project would also be consistent with the target supply mix in the 2019 IRP that aims the addition of up to 5,200 MW of simple cycle capacity by 2028 to facilitate the integration of solar onto the TVA bulk power system.

Project Purpose and Need

The TVA-owned land for TVA's proposed project is in Ashland City, Cheatham County, Tennessee, which is approximately 22 miles northwest of Nashville. The total property is approximately 285 acres with the proposed project footprint covering a footprint of approximately 75 acres. TVA's EIS would evaluate the proposed action to replace a portion of the 1,450 MW generation capacity of the second CUF unit planned for retirement in 2028 with up to 900 MW of generation capacity from CHG.

The purpose of the proposed action is to help provide generation to support continued load growth in the Tennessee Valley and TVA's decarbonization goals. TVA needs flexible, dispatchable power that can successfully integrate increasing amounts of renewable energy sources while ensuring reliability. One of the purposes of the proposed action is to facilitate the integration of solar onto the electric grid and thereby advance TVA's decarbonation goals.

The need for the Proposed Action is to ensure that TVA can meet required year-round generation and maximum capacity system demands and planning reserve margin targets. By constructing and operating a CT with a BESS interconnected to the transmission system at the same location, TVA would continue providing dispatchable and reliable energy to the people of the Tennessee Valley at the lowest feasible cost with fewer environmental impacts than the current generating capacity that is being replaced. The addition of the proposed 400 MW-hour BESS could also help TVA maintain grid stability and reliability as generating assets with greater minute-by-minute variability are integrated into TVA's transmission system (e.g. wind and solar generating assets).

Preliminary Proposed Action and Alternatives

TVA anticipates that the scope of the EIS will evaluate a No Action Alternative and an Action Alternative. The No Action alternative provides a baseline for comparing against the Action Alternative. Under the No Action Alternative, TVA would not develop the TVA-owned property in Cheatham County for energy generation. The Action Alternative would evaluate the development of the CHG property for construction and operation of a CT interconnected with a BESS. The CHG property would also include an approximately 13-acre pollinator habitat along Sycamore Creek. Whether these or other alternatives are reasonable warranting further consideration under NEPA would be determined in the course of preparing the EIS. Related actions, such as the construction of an approximately 12-mile natural gas pipeline lateral and off-site transmission lines, will also be assessed in this EIS. The pipeline facilities to bring gas supply to the CHG property would, to the extent practicable, be located within or adjacent to an existing pipeline right of way.

Anticipated Environmental Impacts

The EIS will include a detailed evaluation of the environmental, social, and economic impacts associated with implementation of the proposed action. Resource areas to be addressed in the EIS include, but are not limited to: air quality; aquatics; botany; climate change; cultural resources; emergency planning; floodplains; geology and groundwater; land use; noise and vibration; soil erosion and surface water; socioeconomics and environmental justice; threatened and endangered species; transportation; visual; waste; wetlands; and wildlife. Measures to avoid, minimize, and mitigate adverse effects will be identified and evaluated in the EIS.

Anticipated Permits and Other Authorizations

TVA anticipates seeking required permits or authorizations, as appropriate. The construction of the natural gas pipeline(s) would be subject to Federal Energy Regulatory Commission (FERC) jurisdiction and additional review will be undertaken by FERC in accordance with its own NEPA procedures. TVA's proposed action to construct a CT and BESS may also require issuance of an air permit under the Clean Air Act, an Individual or Nationwide Permit under section 404 of the Clean Water Act; section 401 Water Quality Certification; conformance with Executive Orders on Environmental Justice (12898), Wetlands (11990), Floodplain Management (11988), Migratory Birds (13186), and Invasive Species (13112); and compliance with section 106 of the National Historic Preservation Act, section 7 of the Endangered Species Act, and other applicable local, Federal, and State regulations.

Public Participation and Scoping Process

Scoping, which is integral to the process for implementing NEPA, provides an early and open process to ensure that issues are identified early and properly studied; issues of little significance do not consume substantial time and effort; the draft EIS is thorough and balanced; and delays caused by an inadequate EIS are avoided. TVA seeks comment and participation from all interested parties for identification of potential alternatives, information, and analyses relevant to the proposed action in this EIS. Information about this project is available at https://www.tva.gov/NEPA, which includes a link to an online public comment page. Comments must be received or postmarked no later than June 20, 2023. Federal, State, local agencies, and Native American Tribes are also invited to provide comments. Please note that any comments received, including names and addresses, will become part of the project administrative record and will be available for public inspection. TVA plans to have an open house on May 24, 2023. Visit https://www.tva.gov/NEPA to obtain more information about the open house.

EIS Preparation and Schedule

TVA will consider comments received during the scoping period and develop a scoping report which will be published at https://www.tva.gov/NEPA. The scoping report will summarize public and agency comments that were received and identify the projected schedule for completing the EIS process. Subsequently, following completion of the environmental analysis, TVA will post a Draft EIS for public review and comment on the project web page. TVA anticipates holding a public open house after releasing the Draft EIS. Open house details will be posted on TVA's website in conjunction with the Draft EIS. TVA expects to release the Draft EIS in 2024, a Final EIS in 2025, and a Record of Decision at least 30-days after the release of the Final EIS.

Authority: 40 CFR 1501.9.

Susan Jacks,
General Manager, Environmental Resource Compliance.

[FR Doc. 2023-10651 Filed 5-18-23; 8:45 am]

BILLING CODE 8120-08-P